Title 3—

The President

Memorandum of April 20, 2012

Delegation of Reporting Functions Specified in Section 1235(c) of the National Defense Authorization Act for Fiscal Year 2012

Memorandum for the Secretary of State

By the authority vested in me as President by the Constitution and the laws of the United States of America, including section 301 of title 3 of the United States Code, I hereby delegate to you the reporting functions conferred upon the President by section 1235(c) of the National Defense Authorization Act for Fiscal Year 2012 (Public Law 112-81).

You are authorized and directed to publish this memorandum in the Federal Register.

THE WHITE HOUSE,

Washington, April 20, 2012

[FR Doc. 2012-11990

Filed 5-15-12; 8:45 am]

Billing code 4710-10-P